DEPARTMENT OF DEFENSE

Department of the Air Force

Notice of Federal Advisory Committee Meeting; Withdrawal

AGENCY: U.S. Air Force Scientific Advisory Board, Department of the Air Force, DoD.

ACTION: Notice of withdrawal.

SUMMARY: The previous Air Force Scientific Advisory Board Federal Register Notice, Vol. 85, No. 46, published on Monday March 9, 2020, is hereby withdrawn. The United States Air Force Scientific Advisory Board Meeting to be held on April 2, 2020 is cancelled. Due to circumstances beyond the control of the Department of Defense and the Designated Federal Officer for the U.S. Air Force Scientific Advisory Board was unable to provide public notification required by concerning the cancellation of the previously noticed meeting of the U.S. Air Force Scientific Advisory Board for April 2, 2020. Accordingly, the Advisory Committee Management Officer for the Department of Defense waives the 15-calendar day notification requirement.

FOR FURTHER INFORMATION CONTACT: Evan Buschmann, (240) 612-5503 (Voice), 703-693-5643 (Facsimile), evan.g.buschmann.civ@us.af.mil (Email). Mailing address is 1500 West Perimeter Road, Ste. #3300, Joint Base Andrews, MD 20762.

Adriane Paris,
Acting Air Force Federal Register Liaison Officer.

[FR Doc. 2020-06282 Filed 3-25-20; 8:45 am]

BILLING CODE 5001-10-P